DEPARTMENT OF THE INTERIOR

National Park Service

[NPS-WASO-NAGPRA-15181; PPWOCRADN0-PCU00RP14.R50000]

Notice of Intent to Repatriate Cultural Items: Oakland Museum of California

AGENCY: National Park Service, Interior.

ACTION: Notice.

SUMMARY: The Oakland Museum of California, in consultation with the appropriate Indian tribes or Native Hawaiian organizations, has determined that the cultural item listed in this notice meets the definition of a sacred object and an object of cultural patrimony. Lineal descendants or representatives of any Indian tribe or Native Hawaiian organization not identified in this notice that wish to claim this cultural item should submit a written request to the Oakland Museum of California. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Oakland Museum of California at the address in this notice by April 30, 2014.

ADDRESSES: Lori Fogarty, Director, Oakland Museum of California, 1000 Oak Street, Oakland, CA 94607, (510) 318-8400, email lfogarty@museumca.org.

SUPPLEMENTARY INFORMATION: Notice is here given in accordance with the Native American Graves Protection and Repatriation Act (NAGPRA), 25 U.S.C. 3005, of the intent to repatriate a cultural item under the control of the Oakland Museum of California, Oakland, CA that meets the definition of a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Between 1897 and 1928, one cultural item was removed from Wrangell, AK, by Fred W. Carlyon, a local shop owner. Carlyon and his sister, Anna Vaughn, collected the Shtax' Heen Kwaan Kaachadi Frog Hat during their time in Wrangell in the late 19th and early 20th centuries. Later, the hat passed from the collectors to Dorothy K. Haberman, who was Miss Vaughn's daughter. Mrs. Haberman donated the hat to the Oakland Museum of California in 1959. The sacred object/object of cultural patrimony is a clan crest hat in the shape of a frog carved from wood and with copper overlay on formline. The eyes are overlaid with abalone and the hat is topped with five woven spruce root rings.

Oral traditions say that the Tlingit Indians have inhabited Southeast Alaska since time immemorial. They share an identity as a tribe and trace that identity to multiple ancestral groups. The Khaach.ádi clan of Xhíxhch'i Hít (Frog House) of the Shtax Héen Khwaan (“Wrangell People”) have origin stories tracing the group from the Naas Héeni (Naas River) to the Shtax Héen (Stikine River). An ancestress of the clan obtained rights to the Frog crest on the Shtaxh Héen. The Frog Hat is considered a sacred object/object of cultural patrimony because of its status as at.óow—a clan owned object brought out in ceremonies by a clan appointed caretaker and an object that could not be alienated without the consent of the entire clan. The Frog Hat, as clan property, is needed for the present-day clan members to participate in ongoing ceremonies.

Determinations Made by the Oakland Museum of California

Officials of the Oakland Museum of California have determined that:

• Pursuant to 25 U.S.C. 3001(3)(C), the cultural item described above is a specific ceremonial object needed by traditional Native American religious leaders for the practice of traditional Native American religions by their present-day adherents.

• Pursuant to 25 U.S.C. 3001(3)(D), the cultural item described above has ongoing historical, traditional, or cultural importance central to the Native American group or culture itself, rather than property owned by an individual.

• Pursuant to 25 U.S.C. 3001(2), there is a relationship of shared group identity that can be reasonably traced between the sacred object/object of cultural patrimony and the Central Council of the Tlingit & Haida Indian Tribes.

Additional Requestors and Disposition

Lineal descendants or representatives of any Indian tribe or Native Hawaiian organization not identified in this notice that wish to claim this cultural item should submit a written request with information in support of the claim to Lori Fogarty, Director, Oakland Museum of California, 1000 Oak Street, Oakland, CA 94607, (510) 318-8400, email lfogarty@museumca.org, by April 30, 2014. After that date, if no additional claimants have come forward, transfer of control of the sacred object/object of cultural patrimony to the Central Council of the Tlingit & Haida Indian Tribes may proceed.

The Oakland Museum of California is responsible for notifying the Central Council of the Tlingit & Haida Indian Tribes that this notice has been published.

Dated: March 4, 2014.
Sherry Hutt,
Manager, National NAGPRA Program.

[FR Doc. 2014-07147 Filed 3-28-14; 8:45 am]

BILLING CODE 4312-50-P